DEPARTMENT OF DEFENSE

Department of the Navy

Notice of Intent To Prepare a Supplemental Environmental Impact Statement/Supplemental Overseas Environmental Impact Statement for Employment of Surveillance Towed Array Sensor System Low Frequency Active (SURTASS LFA) Sonar

AGENCY: Department of the Navy; DoD.

ACTION: Notice.

SUMMARY: Pursuant to the National Environmental Policy Act (NEPA), Executive Order 12114 (Environmental Effects Abroad of Major Federal Actions), and in compliance with OPNAVINST 5090.1D the Navy is announcing its intent to prepare a Supplemental Environmental Impact Statement (SEIS)/Supplemental Overseas Environmental Impact Statement (SOEIS) for the worldwide employment of SURTASS LFA sonar.

DATES: The Draft SEIS/SOEIS is expected to be available in June 2016, at which time the public comment period will be open for 45 days. The Final SEIS/SOEIS is expected to be completed by June 2017.

FOR FURTHER INFORMATION CONTACT: Chief of Naval Operations, Code N2/N6F24, c/o SURTASS LFA Sonar SEIS/SOEIS Program Manager, 4350 Fairfax Drive, Suite 600, Arlington, Virginia 22203; or email: eisteam@surtass-lfa-eis.com.

SUPPLEMENTARY INFORMATION: In continuance of the Navy's commitment to responsible stewardship of the marine environment and building upon analyses and information included in the Navy's 2001 Final Environmental Impact Statement (EIS)/Overseas EIS (OEIS), 2007 Final SEIS, 2012 Final SEIS/SOEIS, and 2015 Final SEIS/SOEIS, the Navy intends to prepare a comprehensive assessment of the environmental effects associated with employment of SURTASS LFA ¹ sonar systems. The SEIS/SOEIS and associated analysis will be used to support consultations associated with expiring regulatory permits and authorizations in 2017.

¹ “SURTASS LFA sonar systems” refers to both the LFA and compact LFA (CLFA) systems, each having similar acoustic transmission characteristics.

The Navy proposes to continue employing up to four SURTASS LFA sonar systems onboard U.S. Navy surveillance ships for routine training, testing, and military operations in the Pacific, Atlantic, and Indian oceans, and the Mediterranean Sea with certain geographical restrictions and other preventive measures designed to mitigate adverse effects on the marine environment. As part of the SEIS/SOEIS analyses, the Navy will continue to assess potential impacts of SURTASS LFA sonar systems to offshore biologically important areas (OBIAs). Effectiveness of the mitigation measures that are the foundation of the Navy's operation of SURTASS LFA sonar will also be re-assessed in the context of new technologies and methodologies as well as operational practicability.

In addition to the No Action alternative, alternatives will include the alternative chosen in the Navy's 2012 Record of Decision and an analysis of potential additional new or modified OBIAs developed from the Adaptive Management process and a comprehensive review of relevant scientific information/data during the SEIS/SOEIS review process.

The National Marine Fisheries Service has been asked to be a cooperating agency under 40 CFR 1501.6 for the development of the SEIS/SOEIS. The SEIS/SOEIS will comply with both NEPA and Executive Order 12114 as well as other relevant environmental statutes.

Additional information concerning SURTASS LFA sonar and pertinent environmental documents are available at: http://www.surtass-lfa-eis.com.

Dated: June 1, 2015.
N.A. Hagerty-Ford,
Commander, Judge Advocate General's Corps, U.S. Navy, Federal Register Liaison Officer.

[FR Doc. 2015-13772 Filed 6-4-15; 8:45 am]

BILLING CODE 3810-FF-P